DEPARTMENT OF THE INTERIOR

Fish and Wildlife Service

Notice of Issuance of Permits for Incidental Take

AGENCY: Fish and Wildlife Service, Interior.

ACTION: Notice of issuance of 111 permits for incidental take of threatened and endangered species: Annual report.

SUMMARY: Between October 1, 2000 and September 30, 2001, Region 2 of the Fish and Wildlife Service issued 111 permits for the incidental take of threatened and endangered species, pursuant to section 10(a)(1)(B) of the Endangered Species Act of 1973 (Act), as amended. Of the 111 permits issued in the greater Austin, Texas area; one is for the golden-cheeked warbler (GCW) related to the Balcones Canyonlands Preserve, one is for karst invertebrates, and 109 are for the Houston toad (HT). In addition, between October 1, 2000 and September 30, 2001, 2 permits had amendments.

ADDRESSES: If you would like copies of any of the above documents, please contact the U.S. Fish and Wildlife Service, Ecological Services, P.O. Box 1306, Albuquerque, New Mexico.

FOR FURTHER INFORMATION CONTACT: Leslie Dierauf, Regional Habitat Conservation Plan Coordinator, at the above address, 505-248-6651. Further details of these permits may also be viewed on the Internet at http://ecos.fws.gov.

SUPPLEMENTARY INFORMATION: Section 9 of the Act and Federal Regulation prohibit the “take” of wildlife species listed as threatened or endangered species. Under the Act, the term “take” means to harass, harm, pursue, hunt, shoot, wound, kill, trap, capture, or collect listed wildlife, or to attempt to engage in any such conduct. The Service may, under limited circumstances, issue permits to authorize incidental take, i.e. that is incidental to, and not the purpose of, the carrying out of an otherwise lawful activity. Regulations governing permits for endangered species are at 50 CFR 17.22.

111 Incidental Take Permits Issued

Permittee | (State) species | Permit No. | Date of Issuance
Siefert | (TX)HT | TE-025997-0-005 | 10/2/00
Bastrop Seventh Day Adventist Church | (TX)HT | TE-025997-0-003 | 10/2/00
Becerra | (TX)HT | TE-025997-0-004 | 10/2/00
Kummermehr | (TX)HT | TE-025997-0-010 | 10/2/00
Jarrels | (TX)HT | TE-025997-0-006 | 10/13/00
Circle B Homes | (TX)HT | TE-025997-0-011 | 10/13/00
McClure | (TX)HT | TE-025997-0-014 | 10/13/00
McClure | (TX)HT | TE-025997-0-015 | 10/13/00
Schena | (TX)HT | TE-029608-0 | 10/27/00
MacQueen | (TX)HT | TE-025997-0-021 | 10/31/00
Ligon | (TX)HT | TE-025997-0-012 | 11/21/00
Smith | (TX)HT | TE-025997-0-024 | 11/21/00
Lindenau | (TX)HT | TE-025997-0-023 | 11/21/00
Pierson | (TX)HT | TE-025997-0-025 | 11/21/00
Kelley | (TX)HT | TE-025997-0-008 | 12/1/00
Groves | (TX)HT | TE-025997-0-026 | 12/21/00
Johnson | (TX)HT | TE-025997-0-027 | 12/21/00
Niehus | (TX)HT | TE-025997-0-029 | 12/21/00
Walraven | (TX)HT | TE-033185-0 | 1/18/01
Gilfillan | (TX)HT | TE-033887-0 | 1/23/01
Holter | (TX)HT | TE-025997-0-030 | 1/29/01
Gillespie | (TX)HT | TE-025997-0-032 | 1/29/01
Vavricek | (TX)HT | TE-025997-0-028 | 1/29/01
Steins | (TX)HT | TE-025965-0-003 | 2/20/01
Stobaugh | (TX)HT | TE-025965-0-002 | 2/20/01
Miller | (TX)HT | TE-025997-0-033 | 2/20/01
Nira | (TX)HT | TE-025997-0-034 | 2/20/01
Gardner | (TX)HT | TE-025997-0-035 | 2/20/01
Walters | (TX)HT | TE-025997-0-036 | 2/20/01
Parker | (TX)HT | TE-025997-0-037 | 2/20/01
Sinclair | (TX)HT | TE-025997-0-031 | 2/20/01
Live Oak Homes | (TX)HT | TE-025997-0-016 | 2/26/01
Cornerstone | (TX)HT | TE-025997-0-042 | 2/26/01
McClure | (TX)HT | TE-025997-0-040 | 2/26/01
Havens | (TX)HT | TE-025997-0-038 | 3/1/01
Macafee | (TX)HT | TE-025997-0-039 | 3/9/01
Sultan & Kahn | (TX)Karst | TE-035525-0 | 3/9/01
Roush | (TX)HT | TE-025997-0-041 | 3/9/01
Young | (TX)HT | TE-025965-0-004 | 3/9/01
Advantage Builders | (TX)HT | TE-025997-0-045 | 3/23/01
Advantage Builders | (TX)HT | TE-025997-0-046 | 3/23/01
Bishop | (TX)HT | TE-025997-0-049 | 3/23/01
McClure | (TX)HT | TE-025997-0-048 | 3/23/01
Miller | (TX)HT | TE-025997-0-047 | 3/23/01
Colter | (TX)HT | TE-025997-0-044 | 3/23/01
Mendoza | (TX)HT | TE-025965-0-009 | 4/6/01
Casey | (TX)HT | TE-025997-0-050 | 4/6/01
Smith | (TX)HT | TE-025965-0-008 | 4/6/01
Slater | (TX)HT | TE-025965-0-007 | 4/6/01
Mosley | (TX)HT | TE-025965-0-006 | 4/6/01
Hansen | (TX)HT | TE-025965-0-010 | 4/6/01
CT-620 | (TX)HT | TE-036095-0 | 4/30/01
Skye/Eckhart | (TX)HT | TE-035908-0 | 4/30/01
Beeman | (TX)HT | TE-035919-0 | 4/30/01
Stobaugh | (TX)HT | TE-025965-0-011 | 5/10/01
Goode | (TX)HT | TE-025997-0-062 | 5/10/01
Phillips | (TX)HT | TE-025997-0-064 | 5/10/01
Shigo | (TX)HT | TE-025997-0-071 | 5/10/01
Haeffner/Rostetter | (TX)HT | TE-025997-0-063 | 5/10/01
Juarez | (TX)HT | TE-025965-0-016 | 5/10/01
Phillips | (TX)HT | TE-025965-0-014 | 5/10/01
Phillips | (TX)HT | TE-025965-0-015 | 5/10/01
DuCharme | (TX)HT | TE-025997-0-053 | 5/10/01
Phillips | (TX)HT | TE-025997-0-059 | 5/10/01
West | (TX)HT | TE-025997-0-056 | 5/10/01
Phillips | (TX)HT | TE-025997-0-060 | 5/10/01
Shen | (TX)HT | TE-025997-0-054 | 5/10/01
Phillips | (TX)HT | TE-025997-0-061 | 5/10/01
Hinkston | (TX)HT | TE-025997-0-057 | 5/10/01
Glenn | (TX)HT | TE-025997-0-055 | 5/10/01
Brigham | (TX)HT | TE-025997-0-075 | 6/15/01
Conrad | (TX)HT | TE-025997-0-073 | 6/15/01
Martinez | (TX)HT | TE-025997-0-080 | 6/15/01
Brady | (TX)HT | TE-025997-0-079 | 6/15/01
Ingram | (TX)HT | TE-025965-0-018 | 6/15/01
Alley | (TX)HT | TE-025965-0-017 | 6/15/01
Cornerstone | (TX)HT | TE-025997-0-076 | 6/15/01
Vasquez | (TX)HT | TE-037190-0 | 6/26/01
Bell | (TX)HT | TE-039440-0 | 6/28/01
Gray Mountain | (TX)GCW | TE-037888-0 | 6/28/01
Harding | (TX)HT | TE-036096-0 | 6/28/01
Wirries | (TX)HT | TE-037191-0 | 7/1/01
JRS Builders | (TX)HT | TE-025997-0-094 | 7/5/01
Kailing | (TX)HT | TE-025997-0-090 | 7/5/01
Ellington | (TX)HT | TE-025965-0-020 | 7/5/01
Wright | (TX)HT | TE-025965-0-019 | 7/5/01
JRS Builders | (TX)HT | TE-025997-0-093 | 7/5/01
City of Bastrop | (TX)HT | TE-025965-0-013 | 7/5/01
Greenwood | (TX)HT | TE-025997-0-096 | 7/27/01
Howard | (TX)HT | TE-025997-0-058 | 7/27/01
McClure | (TX)HT | TE-025997-0-098 | 7/27/01
McClure | (TX)HT | TE-025997-0-097 | 7/27/01
Bastrop Co WCID #2 | (TX)HT | TE-025965-1-023 | 8/1/01
Matl | (TX)HT | TE-025997-1-101 | 8/1/01
Holberg | (TX)HT | TE-025997-1-100 | 8/1/01
Capstone | (TX)HT | TE-025965-1-021 | 8/3/01
Capstone | (TX)HT | TE-025965-1-022 | 8/3/01
Steiwig | (TX)HT | TE-025997-1-099 | 8/3/01
Cornerstone | (TX)HT | TE-025997-1-104 | 8/23/01
Fuller | (TX)HT | TE-025997-1-105 | 8/23/01
Whited | (TX)HT | TE-025997-1-108 | 8/23/01
Samaro | (TX)HT | TE-025997-1-107 | 8/27/01
Myers | (TX)HT | TE-025997-1-109 | 8/27/01
Bowman | (TX)HT | TE-025997-1-081 | 8/27/01
Bowman | (TX)HT | TE-025997-1-082 | 8/27/01
Tyre | (TX)HT | TE-025997-1-106 | 8/27/01
Garcia | (TX)HT | TE-025997-1-113 | 9/10/01
Burnham | (TX)HT | TE-025997-1-111 | 9/10/01
Fernandez | (TX)HT | TE-025997-1-112 | 9/10/01
Serna | (TX)HT | TE-025997-1-114 | 9/18/01
Taylor | (TX)HT | TE-025965-1-024 | 9/18/01
2 Amendments Issued
Bastrop County 4 Low Quality Habitat | (TX)HT | TE-025965-1-000 | 7/27/01
Bastrop County 42 Medium Quality Habitat | (TX)HT | TE-025997-1-000 | 7/27/01

Geoffrey L. Haskett,
Regional Director, Region 2.

[FR Doc. 02-198 Filed 1-3-02; 8:45 am]

BILLING CODE 4510-55-P